DEPARTMENT OF LABOR

Employment and Training Administration

[TA-W-83,317]

Wind Clean Corporation; Coleman, Texas; Notice of Negative Determination Regarding Application for Reconsideration

By application dated March 10, 2014, a Trade Adjustment Assistance (TAA) Coordinator requested administrative reconsideration of the Department of Labor's negative determination regarding eligibility to apply for TAA applicable to workers and former workers of the subject firm. The negative determination was issued on February 24, 2014.

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The request for reconsideration asserts that because “Wind Clean provides coating services to Trinity Structural Towers in Coleman, Texas” and workers of Trinity Structural Towers are eligible to apply for TAA, Section 222(b) of the Trade Act, as amended, has been met.

Section 222(b) of the Trade Act, 19 U.S.C. § 2272(b), requires that the workers' firm be a Supplier or Downstream Producer (as the case may be) to a firm that employed a worker group eligible to apply for TAA under Section 222(a) of the Trade Act and that the supply or production (as the case may be) is related to the article or service that was the basis for the Section 222(a) certification.

Workers and former workers of Trinity Structural Towers, Coleman, Texas (TA-W-83,318) are eligible to apply for TAA because Section 222(e) of the Trade Act, as amended, was met.

The petitioner did not supply facts not previously considered; nor provide additional documentation indicating that there was either (1) a mistake in the determination of facts not previously considered or (2) a misinterpretation of facts or of the law justifying reconsideration of the initial determination. Based on these findings, the Department determines that 29 CFR 90.18(c) has not been met.

Conclusion

After careful review of the application and investigative findings, I conclude that there has been no error or misinterpretation of the law or of the facts which would justify reconsideration of the Department of Labor's prior decision. Accordingly, the application is denied.

Signed in Washington, DC, this 8th day of April 2014.
Del Min Amy Chen,
Certifying Officer, Office of Trade Adjustment Assistance.

[FR Doc. 2014-09754 Filed 4-28-14; 8:45 am]

BILLING CODE 4510-FN-P